DEPARTMENT OF THE INTERIOR

National Park Service

[NPS-WASO-NRNHL-DTS#-32872; PPWOCRADI0, PCU00RP14.R50000]

National Register of Historic Places; Notification of Pending Nominations and Related Actions

AGENCY: National Park Service, Interior.

ACTION: Notice.

SUMMARY: The National Park Service is soliciting electronic comments on the significance of properties nominated before October 9, 2021, for listing or related actions in the National Register of Historic Places.

DATES: Comments should be submitted electronically by November 8, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 9, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Maricopa County

Wright, David and Gladys, House, 405 North Rubicon Ave. (formally 5212 East Exeter Blvd.), Phoenix, SG100007156

Valley National Bank Branch No. 10, 1845 East McDowell Rd., Phoenix, SG100007157

ILLINOIS

Cook County

State of Illinois Center, 100 West Randolph St., Chicago, SG100007140

IOWA

Dallas County

Dayton Stagecoach Inn and Tavern Historic District, 14750 Pecos Ct., Bouton vicinity, SG100007139

MASSACHUSETTS

Suffolk County

Humboldt Avenue Historic District, 249, 257, 259 Humboldt Ave. and 79-83, 94 Hutchings St., Boston, SG100007147

MONTANA

Mineral County

St. Regis Airway Beacon, (Sentinels of the Airways: Montana's Airway Beacon System, 1934-1979 MPS), 2 mi. SE of St. Regis, St. Regis vicinity, MP100007145

NEBRASKA

Harlan County

Alma Carnegie Library, (Carnegie Libraries in Nebraska MPS AD), 111 North John St., Alma, MP100007149

Madison County

Norfolk Masonic Temple, 907 Norfolk Ave., Norfolk, SG100007150

Otoe County

Palmyra Pioneer Cemetery, Jct. of Giles and North 10th Rds., Palmyra vicinity, SG100007151

NEW YORK

Erie County

American Grain Complex (Boundary Increase), (Buffalo Grain and Materials Elevator MPS), 100 Childs St. aka 145 Buffalo River, Buffalo, BC100007137

Monroe County

J. Hungerford Smith Company Factory, 410 North Goodman and 1115 East Main Sts., Rochester, SG100007141

PENNSYLVANIA

Franklin County

Peerless Furniture Company, 40 Lurgan Ave., Shippensburg, SG100007142

VIRGINIA

Campbell County

Mead's Tavern, 594 Alum Springs Rd., Lynchburg vicinity, SG100007133

Fauquier County

Vint Hill Farms Station Historic District, Aiken Dr., Kennedy Rd., Vint Hill Pkwy., Farm Station Rd., Bludau Dr., Sigler Rd., Warrenton, SG100007135

Richmond County

Chinn House, 5554 Richmond Rd., Warsaw, SG100007134

WISCONSIN

Dane County

Edwards-Larson House, 6003 Exchange St., McFarland, SG100007138

Depot Hill Historic District, Roughly along E. Main St., Stoughton, 98000222

La Crosse County

Wright, Razy and John, House, W5670 Cty. Rd. F, Medary, SG100007152

Additional documentation has been received for the following resources:

MARYLAND

Baltimore Independent City

Clifton Park, Bounded by Hartford Rd., Erdman Ave., Clifton Park Terrace, the Baltimore Belt RR and Sinclair Ln., Baltimore, AD07000941

MASSACHUSETTS

Plymouth County

Kingston Center Historic District, Main, Green Sts., Kingston, AD02001085

NEW YORK

Erie County

American Grain Complex (Additional Documentation), (Buffalo Grain and Materials Elevator MPS), 100 Childs St. aka 145 Buffalo River, Buffalo, AD12000475

Authority: Section 60.13 of 36 CFR part 60.

Dated: October 13, 2021.
Sherry A. Frear,
Chief, National Register of Historic Places/National Historic Landmarks Program.

[FR Doc. 2021-23015 Filed 10-21-21; 8:45 am]

BILLING CODE 4312-52-P